DEPARTMENT OF ENERGY

Southeastern Power Administration

Proposed Rate Adjustment for Kerr-Philpott System

AGENCY: Southeastern Power Administration, DOE.

ACTION: Notice of public hearing and opportunities for review and comment.

SUMMARY: Southeastern Power Administration (Southeastern) proposes to replace existing schedules of rates and charges applicable for the sale of power from the Kerr-Philpott System effective for a five-year period from October 1, 2006, to September 30, 2011. Additionally, opportunities will be available for interested persons to review the present rates, the proposed rates and supporting studies, to participate in a forum, and to submit written comments. Southeastern will evaluate all comments received in this process.

DATES: Written comments are due on or before June 8, 2006. A public information and comment forum will be held in Raleigh, North Carolina, at 10 a.m. on April 26, 2006. Persons desiring to speak at the forum should notify Southeastern at least seven (7) days before the forum is scheduled so that a list of forum participants can be prepared. Others present at the forum may speak if time permits. Persons desiring to attend the forum should notify Southeastern at least seven (7) days before the forum is scheduled. Unless Southeastern has been notified by the close of business on April 19, 2006, that at least one person intends to be present at the forum, the forum may be canceled with no further notice.

ADDRESSES: Five copies of written comments should be submitted to: Charles Borchardt, Administrator, Southeastern Power Administration, Department of Energy, Elberton, GA 30635. The public comment forum will meet at the Raleigh Marriott Crabtree Valley, 4500 Marriott Drive, Raleigh, NC 27612, (919) 781-7000.

FOR FURTHER INFORMATION CONTACT: Leon Jourolmon, Assistant Administrator, Finance and Marketing, Southeastern Power Administration, Department of Energy, 1166 Athens Tech Road, Elberton, GA 30635-6711, (706) 213-3800.

SUPPLEMENTARY INFORMATION: The Federal Energy Regulatory Commission (FERC), by order issued March 6, 2002, confirmed and approved Rate Schedules VA-1, VA-2, VA-3, VA-4, CP&L-1, CP&L-2, CP&L-3, C:&L-4, AP-1, AP-2, AP-3, AP-4, and NC-1 for the period October 1, 2001, to September 30, 2006. A current repayment study prepared in February of 2006 shows that existing rates are not adequate to recover all costs required by present repayment criteria. Southeastern is proposing new rates to recoup these unrecovered costs.

A revised repayment study with a revenue increase of $4,815,000 in Fiscal Year 2007 and all future years over the current repayment study shows that all costs are repaid within their service life. Therefore, Southeastern is proposing to revise the existing rates to generate this additional revenue. The increase is primarily due to costs associated with the rehabilitation of the John H. Kerr Project currently underway. The rate adjustment is an increase of about 42 percent.

Proposed Unit Rates

Under the proposed rates, the capacity charge will increase from the current $1.96 per kilowatt per month to $3.17 per kilowatt per month. The energy charge will increase from the current 8.25 mills per kilowatt-hour to 12.66 mills per kilowatt-hour. In addition, Southeastern proposes to continue a Tandem Transmission rate, which is designed to recover the cost of transmitting power from a project to the border of another transmitting system. This rate is to be a formulary pass-through rate based on the charges by transmission facilitators and is estimated to be $1.69 per kilowatt per month.

Southeastern is proposing the following rate schedules to be effective for the period from October 1, 2006, to September 30, 2011.

Rate Schedule PJM-1

Available to public bodies and cooperatives in Virginia and North Carolina to whom power may be transmitted and scheduled pursuant to contracts between the Government and the PJM Interconnection, LLC (PJM).

Rate Schedule PJM-2

Available to public bodies and cooperatives in Virginia and North Carolina to whom power may be transmitted pursuant to contracts between the Government and PJM. The customer is responsible for providing a scheduling arrangement with the Government.

Rate Schedule PJM-3

Available to public bodies and cooperatives in Virginia and North Carolina to whom power may be scheduled pursuant to contracts between the Government and PJM. The customer is responsible for providing a transmission arrangement.

Rate Schedule PJM-4

Available to public bodies and cooperatives in the service area of PJM. The customer is responsible for providing a scheduling arrangement with the Government and for providing a transmission arrangement.

Rate Schedule CP&L-1-A

Available to public bodies and cooperatives in North Carolina to whom power may be transmitted and scheduled pursuant to contracts between the Government and Carolina Power & Light.

Rate Schedule CP&L-2-A

Available to public bodies and cooperatives in North Carolina to whom power may be transmitted pursuant to contracts between the Government and Carolina Power & Light. The customer is responsible for providing a scheduling arrangement with the Government.

Rate Schedule CP&L-3-A

Available to public bodies and cooperatives in North Carolina to whom power may be scheduled pursuant to contracts between the Government and Carolina Power & Light. The customer is responsible for providing a transmission arrangement.

Rate Schedule CP&L-4-A

Available to public bodies and cooperatives in the service area of Carolina Power & Light. The customer is responsible for providing a scheduling arrangement with the Government and for providing a transmission arrangement.

Rate Schedule NC-1-A

Available to public bodies and cooperatives in Virginia and North Carolina to whom power may be transmitted pursuant to a contract between the Government and PJM and scheduled pursuant to a contract between the Government and Carolina Power & Light.

Rate Schedule Replacement-2

This rate schedule shall be applicable to the sale energy purchased to meet contract minimum energy and sold under appropriate contracts between the Government and the Customer.

The referenced repayment studies are available for examination at 1166 Athens Tech Road, Elberton, GA 30635. Proposed Rate Schedules PJM-1, PJM-2, PJM-3, PJM-4, CP&L-1-A, CP&L-2-A, CP&L-3-A, CP&L-4-A, NC-1-A, and Replacement-2 are also available.

Dated: February 27, 2006.
Charles A. Borchardt,
Administrator.

[FR Doc. E6-3455 Filed 3-9-06; 8:45 am]

BILLING CODE 6450-01-P